DEPARTMENT OF HOMELAND SECURITY

Federal Emergency Management Agency

44 CFR Part 67

[Docket ID FEMA-2010-0003; Internal Agency Docket No. FEMA-B-1104]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1104, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Canyon County, Idaho, and Incorporated Areas
Renshaw Canal | Just upstream of Union Pacific Railroad | None | +2346 | City of Greenleaf.
| Just upstream of State Highway 19 | None | +2352
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Greenleaf
Maps are available for inspection at City Hall, 20523 North Whittier Drive, Greenleaf, ID 83626.
Adams County, Illinois, and Incorporated Areas
Cedar Creek | At the confluence with the Mississippi River | +486 | +487 | City of Quincy, Unincorporated Areas of Adams County.
| Approximately 1,000 feet downstream of U.S. Route 24 | +486 | +487
Curtis Creek | At the confluence with the Mississippi River | +485 | +486 | Unincorporated Areas of Adams County.
| Approximately 150 feet upstream of State Route 57 | +485 | +486
Mill Creek | At the confluence with the Mississippi River | +480 | +481 | Unincorporated Areas of Adams County.
| Approximately 1,850 feet upstream of State Route 57 | +480 | +481
Mississippi River | Approximately 2.9 miles upstream of U.S. Route 36 (River Mile 312.4) | +477 | +479 | City of Quincy, Unincorporated Areas of Adams County.
| Approximately 4.1 miles upstream of Lock and Dam No. 20 (River Mile 347.4) | +495 | +494
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Quincy
Maps are available for inspection at City Hall, 730 Maine Street, Quincy, IL 62301.
Unincorporated Areas of Adams County
Maps are available for inspection at the Adams County Highway Department, 101 North 54th Street, Quincy, IL 62305.
Grundy County, Illinois, and Incorporated Areas
Claypool Ditch | Approximately at Carbon Hill Road | None | +546 | Village of Carbon Hill.
| Approximately 0.38 mile upstream of Carbon Hill Road | None | +546
Des Plaines River | Approximately 1.75 mile upstream of the upstream side of the Dresden Island Lock and Dam | +509 | +510 | Unincorporated Areas of Grundy County, Village of Channahon.
| Approximately 0.1 mile upstream of Will Road extended | +511 | +510
East Fork Mazon River | Approximately 1,275 feet downstream of Rice Street | None | +581 | Village of East Brooklyn.
| Approximately at Rice Street | None | +582
Gooseberry Creek | Approximately 750 feet upstream of Old Mazon Road | +613 | +612 | Unincorporated Areas of Grundy County, Village of Dwight.
| Approximately 425 feet upstream of U.S. Route 66 | None | +620
Illinois River | Approximately 0.4 mile downstream of the railroad | +496 | +497 | City of Morris, Unincorporated Areas of Grundy County, Village of Channahon, Village of Seneca.
| Just downstream of the Dresden Island Lock and Dam | +505 | +507
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Morris
Maps are available for inspection at City Hall, 320 Wauponsee Street, Morris, IL 60450.
Unincorporated Areas of Grundy County
Maps are available for inspection at the Grundy County Administration Building, 1320 Union Street, Morris, IL 60450.
Village of Carbon Hill
Maps are available for inspection at the Village Hall, 695 North Holcomb Street, Carbon Hill, IL 60416.
Village of Channahon
Maps are available for inspection at the Village Hall, 24555 South Navajo Drive, Channahon, IL 60410.
Village of Dwight
Maps are available for inspection at the Dwight Public Services Complex, 209 South Prairie Avenue, Dwight, IL 60420.
Village of East Brooklyn
Maps are available for inspection at the Village Hall, 170 Monroe Street, East Brooklyn, IL 60474.
Village of Seneca
Maps are available for inspection at the Village Hall, 340 North Cash, Seneca, IL 61360.
La Salle County, Illinois, and Incorporated Areas
Bailey Creek | Approximately 0.52 mile downstream of Pontiac Street | None | +638 | Unincorporated Areas of La Salle County, Village of Tonica.
| Approximately 100 feet downstream of I-39 | None | +651
Bailey Creek Unnamed Tributary | Approximately at the confluence with Bailey Creek | None | +646 | Village of Tonica.
| Approximately 225 feet upstream of IL-251 | None | +652
Clark Run | Approximately at the confluence with the Illinois River | +466 | +467 | Unincorporated Areas of La Salle County, Village of North Utica.
| Approximately 525 feet downstream of the Illinois and Michigan Canal | +466 | +467
Fox River | Approximately at the confluence with the Illinois River | +472 | +474 | City of Ottawa, Unincorporated Areas of La Salle County.
| Approximately 0.87 mile upstream of U.S. Route 6/Norris Drive | +473 | +474
Goose Creek | Approximately at the confluence with the Fox River | +472 | +474 | City of Ottawa, Unincorporated Areas of La Salle County.
| Approximately 100 feet upstream of Champlain Street | +473 | +474
Illinois River | Approximately 0.51 mile downstream of the confluence with Cedar Creek | +466 | +463 | City of La Salle, City of Marseilles, City of Oglesby, City of Ottawa, City of Peru, Unincorporated Areas of La Salle County, Village of Naplate, Village of North Utica, Village of Seneca.
| Approximately 1.1 mile upstream of IL-170 | +497 | +498
Mendota Creek | Approximately 0.4 mile downstream of 1st Street | None | +724 | City of Mendota, Unincorporated Areas of La Salle County.
| Approximately 0.55 mile upstream of Lakewood Plaza Drive | +766 | +767
Rat Run | Approximately at the confluence with the Illinois River | +493 | +495 | Unincorporated Areas of La Salle County, Village of Seneca.
| Approximately 125 feet downstream of IL-170 | +494 | +495
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of La Salle
Maps are available for inspection at City Hall, 745 2nd Street, La Salle, IL 61301.
City of Marseilles
Maps are available for inspection at City Hall, 209 Lincoln Street, Marseilles, IL 61341.
City of Mendota
Maps are available for inspection at City Hall, 800 Washington Street, Mendota, IL 61342.
City of Oglesby
Maps are available for inspection at City Hall, 110 East Walnut Street, Oglesby, IL 61348.
City of Ottawa
Maps are available for inspection at City Hall, 301 West Madison Street, Ottawa, IL 61350.
City of Peru
Maps are available for inspection at City Hall, 1727 4th Street, Peru, IL 61354.
Unincorporated Areas of La Salle County
Maps are available for inspection at the La Salle County Courthouse, Etna Road Complex, 707 East Etna Road, Ottawa, IL 61350.
Village of Naplate
Maps are available for inspection at the Village Hall, 2000 West Ottawa Avenue, Naplate, IL 61350.
Village of North Utica
Maps are available for inspection at the Village Hall, 801 South Clark Street, North Utica, IL 61373.
Village of Seneca
Maps are available for inspection at the Village Hall, 340 North Cash Street, Seneca, IL 61360.
Village of Tonica
Maps are available for inspection at the Village Hall, 308 Uncas Street, Tonica, IL 61370.
Marion County, Illinois, and Incorporated Areas
CEI Branch of Town Creek | Approximately 650 feet upstream of the Chicago and Eastern Illinois Dam | None | +530 | Unincorporated Areas of Marion County.
| Approximately 1,100 feet upstream of Old Yards Road | None | +530
Crooked Creek | Approximately 1,650 feet downstream of West Green Street extended | None | +464 | Unincorporated Areas of Marion County.
| Approximately at the upstream side of Breway Hill Road | None | +468
Folks Creek | Approximately at the downstream side of Kell Street | None | +515 | Unincorporated Areas of Marion County.
| Approximately at the upstream side of Blair Street | None | +531
Fulton Branch | Approximately at the upstream side of the railroad | None | +490 | City of Centralia.
| Approximately 300 feet upstream of U.S. Route 51 (Southbound Lane) | None | +492
Fulton Branch Tributary | Approximately at the upstream side of Wabash Avenue | None | +499 | City of Centralia.
| Approximately at the downstream side of U.S. Route 51 | None | +512
Raccoon Creek | Approximately 0.85 mile downstream of Green Street Road | None | +468 | Unincorporated Areas of Marion County.
| Approximately at the downstream side of the Raccoon Lake Dam | None | +468
Raccoon Lake | Approximately at the upstream side of the Raccoon Lake Dam | None | +480 | Unincorporated Areas of Marion County.
| Approximately 1.27 mile downstream of IL-161 | None | +480
Town Creek | Approximately at the downstream side of Kell Street | None | +502 | Unincorporated Areas of Marion County.
| Approximately 1,600 feet downstream of Tonti Road | None | +550
Tributary No. 1 | Approximately at the upstream side of Franklin Street | None | +530 | Unincorporated Areas of Marion County.
| Approximately 570 feet upstream of Franklin Street | None | +530
Tributary No. 2 | Approximately 1,200 feet downstream of Lake Street extended | None | +525 | Unincorporated Areas of Marion County.
| Approximately at the downstream side of West Blair Street | None | +542
Unnamed Tributary A | Approximately 420 feet upstream of Green Street Road | +471 | +468 | City of Centralia, Unincorporated Areas of Marion County.
| Approximately 90 feet downstream of Club House Road | +471 | +468
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Centralia
Maps are available for inspection at City Hall, 222 South Poplar Street, Centralia, IL 62801.
Unincorporated Areas of Marion County
Maps are available for inspection at the Marion County Courthouse, 100 Broadway Avenue, Salem, IL 62881.
Pottawatomie County, Kansas, and Incorporated Areas
Big Blue River Tributary | Approximately 100 feet upstream of the confluence with the Big Blue River | None | +1,010 | Unincorporated Areas of Pottawatomie County.
| Approximately 1,200 feet upstream of Junietta Road | None | +1,058
College Creek | Approximately 0.9 mile downstream of Palmer Street | None | +937 | City of St. Marys, Unincorporated Areas of Pottawatomie County.
| Approximately 50 feet downstream of Mt. Calvary Road | None | +1,001
College Creek Left Overflow | Approximately 0.4 mile downstream of Our Ladys Circle | None | +954 | Unincorporated Areas of Pottawatomie County.
| At Our Ladys Circle | None | +959
College Creek Lower Left Overflow | Approximately 1.1 mile upstream of the confluence with the Kansas River | None | +941 | City of St. Marys, Unincorporated Areas of Pottawatomie County.
| At Bertrand Street | None | +959
College Creek Right Overflow | Approximately 600 feet upstream of the confluence with College Creek | None | +941 | Unincorporated Areas of Pottawatomie County.
| Approximately 425 feet upstream of 1st Street | None | +962
Elbo Creek | Approximately 1,600 feet upstream of the confluence with the Big Blue River | None | +1,010 | Unincorporated Areas of Pottawatomie County.
| Approximately 1,400 feet upstream of the confluence with School Creek | None | +1,064
Elbo Creek Tributary | At the confluence with Elbo Creek | None | +1,042 | Unincorporated Areas of Pottawatomie County.
| Approximately 950 feet upstream of Junietta Road | None | +1,068
School Creek | At the confluence with Elbo Creek | None | +1,061 | Unincorporated Areas of Pottawatomie County.
| Approximately 0.5 mile feet upstream of the confluence with Elbo Creek | None | +1,075
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of St. Marys
Maps are available for inspection at City Hall, 200 South 7th Street, St. Marys, KS 66536.
Unincorporated Areas of Pottawatomie County
Maps are available for inspection at the Pottawatomie County Courthouse, Zoning Office, 207 North First, Westmoreland, KS 66549.
Gratiot County, Michigan (All Jurisdictions)
Pine River Lower Reach | At Chessman Road | None | +724 | Township of Pine River.
| Approximately 0.65 mile upstream of Chessman Road | None | +724
Pine River Upper Reach | Approximately 0.77 mile upstream of the State Street Dam | None | +735 | Township of Arcada.
| Approximately 0.96 mile upstream of the State Street Dam | None | +735
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Arcada
Maps are available for inspection at the Arcada Township Hall, 3200 West Tyler Road, Alma, MI 48801.
Township of Pine River
Maps are available for inspection at the Pine River Township Hall, 1495 West Monroe Road, St. Louis, MI 48880.
Erie County, Pennsylvania, (All Jurisdictions)
Fourmile Creek | Approximately 735 feet downstream of Access Road | None | +577 | Township of Harborcreek, Township of Lawrence Park.
| Approximately 745 feet downstream of Buffalo Road | None | +688
| Approximately 485 feet downstream of Buffalo Road | None | +693
| Approximately 400 feet upstream of Mindi Court | None | +770
Lake Erie | Entire coastline in the Commonwealth of Pennsylvania | None | +577 | Township of Girard, Township of Harborcreek, Township of North East.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Township of Girard
Maps are available for inspection at the Municipal Building, 10140 West Ridge Road, Girard, PA 16417.
Township of Harborcreek
Maps are available for inspection at 5601 Buffalo Road, Harborcreek, PA 16421.
Township of Lawrence Park
Maps are available for inspection at the Lawrence Park Township Office, 4230 Iroquois Avenue, Erie, PA 16511.
Township of North East
Maps are available for inspection at the Township Main Office, 1300 West Main Road, North East, PA 16428.
Dinwiddie County, Virginia, and Incorporated Areas
Appomattox River | Approximately 1.65 mile downstream of Ferndale Road (State Route 600) | None | +55 | Unincorporated Areas of Dinwiddie County.
| Approximately 1.28 mile upstream of the Vepco Dam | None | +131
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Dinwiddie County
Maps are available for inspection at the Dinwiddie County Government Center, Planning Department, 14016 Boydton Plank Road, Dinwiddie, VA 23841.
Fremont County, Wyoming, and Incorporated Areas
Big (Middle) Popo Agie River | Approximately 80 feet upstream of the confluence with the North Popo Agie River | None | +5,239 | City of Lander, Unincorporated Areas of Fremont County.
| Approximately 6,030 feet upstream of Field Station Road | None | +5,978
Dickinson Creek | Approximately 240 feet downstream of Fremont Street | None | +5,398 | City of Lander, Unincorporated Areas of Fremont County.
| Approximately 3,360 feet upstream of Fremont Street | None | +5,438
Fremont Street Split | Approximately 160 feet downstream of 3rd Street | None | +5,389 | City of Lander.
| Approximately 380 feet upstream of 4th Street | None | +5,402
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Lander
Maps are available for inspection at 240 Lincoln Street, Lander, WY 82520.
Unincorporated Areas of Fremont County
Maps are available for inspection at 450 North 2nd Street, Room 360, Lander, WY 82520.

Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12489 Filed 5-24-10; 8:45 am]

BILLING CODE 9110-12-P